DEPARTMENT OF JUSTICE

Notice of Lodging of Proposed Consent Decree Under the Comprehensive Environmental Response, Compensation, and Liability Act

On April 19, 2021, the Department of Justice lodged a proposed Consent Decree with the United States District Court for the District of Hawaii in the lawsuit entitled United States v. Kaanapali Land, LLC and Oahu Sugar Company, LLC, Civil Action No. 1:21-cv-00190.

The complaint filed in this case alleges claims for response costs and natural resource damages under the Comprehensive Environmental Response, Compensation, and Liability Act (“CERCLA”) against Kaanapali Land LLC and its bankrupt subsidiary, Oahu Sugar Company, LLC (“Oahu Sugar”) (together, “Settling Defendants”). These claims arise from the release and threatened release of dioxins and pentachlorophenol, among other hazardous substances, at and from the former Oahu Sugar pesticide mixing facility (“Site”) located within the Pearl Harbor Naval Complex Superfund Site. Under the Consent Decree, Settling Defendants will pay a total of $7.5 million to the United States Environmental Protection Agency, United States Department of the Interior, the National Oceanic and Atmospheric Administration, and the Department of Defense, Department of the Navy for Site cleanup and environmental restoration projects. In return, the Consent Decree grants covenants not to sue to Settling Defendants and related parties under Sections 106, 107(a), and 113 of CERCLA, Section 311(f)(4) of the Clean Water Act, and Section 7003 of the Resource Conservation and Recovery Act (“RCRA”).

The publication of this notice opens a period for public comment on the Consent Decree. Comments should be addressed to the Assistant Attorney General, Environment and Natural Resources Division, and should refer to United States v. Kaanapali Land, LLC and Oahu Sugar Company, LLC, D.J. Ref. No. 90-11-3-08781/1. All comments must be submitted no later than thirty (30) days after the publication date of this notice. Comments may be submitted either by email or by mail:

To submit comments: | Send them to:
By e-mail | pubcomment-ees.enrd@usdoj.gov.
By mail | Assistant Attorney General, US DOJ—ENRD, P.O. Box 7611, Washington, D.C. 20044-7611.

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Lori Jonas,
Assistant Section Chief, Environmental Enforcement Section, Environment and Natural Resources Division.

[FR Doc. 2021-08477 Filed 4-22-21; 8:45 am]

BILLING CODE 4410-15-P